DEPARTMENT OF COMMERCE

International Trade Administration

[A-570-601]

Tapered Roller Bearings and Parts Thereof, Finished and Unfinished, From the People's Republic of China; Amended Notice of Initiation and Rescission in Part for the 1999-2000 Antidumping Duty Administrative Review

AGENCY: Import Administration, International Trade Administration, Department of Commerce.

ACTION: Amended Notice of Initiation and Rescission in Part for the 1999-2000 Antidumping Duty Administrative Review.

SUMMARY: On July 31, 2000, in response to a request made by Wafangdian Bearing Group Corp. Import & Export Company, Zhejiang Machinery Import & Export Corp., Wanxiang Group Corporation, China National Machinery Import & Export Corporation, Liaoning MEC Group Co. Ltd., Luoyang Bearing Corp. (Group), Premier Bearing & Equipment Ltd., Tianshui Hailin Import and Export Corporation, Zhejiang Changshan Changhe Bearing Corp., and Weihai Machinery Holding (Group) Co., Ltd. and the petitioner, The Timken Company, the Department of Commerce published the notice of initiation of an antidumping duty administrative review on Tapered Roller Bearings and Parts Thereof, Finished and Unfinished, From the People's Republic of China, for the period June 1, 1999, through May 31, 2000. This notice of initiation inadvertently omitted several companies for which a request for review had been made, and also included several companies for which a request for review had not been made. Thus, we are now rescinding this review in part for those companies which were inadvertently listed in the notice of initiation for which a review was not requested, and amending the notice of initiation to include in the review those companies which were omitted from the original initiation notice.

EFFECTIVE DATE: August 10, 2000.

FOR FURTHER INFORMATION CONTACT: Melani Miller, Import Administration, International Trade Administration, U.S. Department of Commerce, 14th Street and Constitution Avenue, NW, Washington DC 20230; telephone (202) 482-0116.

SUPPLEMENTARY INFORMATION:

Applicable Statute and Regulations

Unless otherwise indicated, all citations to the Tariff Act of 1930, as amended (“the Act”), are references to the provisions effective January 1, 1995, the effective date of the amendments made to the Act by the Uruguay Round Agreements Act (“URAA”). In addition, all references to the Department of Commerce's (“the Department's”) regulations are to 19 CFR part 351 (April 1999).

Background

On June 26, 2000, Liaoning MEC Group Co. Ltd., Premier Bearing & Equipment Ltd., Tianshui Hailin Import and Export Corporation, Weihai Machinery Holding (Group) Co., Ltd. (“Weihai”), Wanxiang Group Corporation, and China National Machinery Import & Export Corporation requested administrative reviews for the period June 1, 1999, through May 31, 2000 (“POR”). On June 30, 2000, Zhejiang Machinery Import & Export Corp. (“ZMC”), Wafangdian Bearing Group Corp. Import & Export Company (“Wafangdian”), Luoyang Bearing Corp. (Group) (“Luoyang”), and Zhejiang Changshan Changhe Bearing Corp. (“ZCCBC”), also requested administrative reviews for the POR. On June 30, 2000, the petitioner, The Timken Company, also requested that the Department conduct an administrative review for the POR.

On July 31, 2000, the Department published a notice of initiation of an antidumping duty administrative review on Tapered Roller Bearings and Parts Thereof, Finished and Unfinished, From the People's Republic of China, for the period June 1, 1999 through May 31, 2000. See Initiation of Antidumping and Countervailing Duty Administrative Reviews and Requests for Revocation in Part, 65 FR 46687 (July 31, 2000).

Amended Notice of Initiation

In its July 31, 2000, notice of initiation, the Department inadvertently omitted several companies from the notice of initiation for this proceeding. Because the Department has received timely requests, in accordance with § 351.213(b) of the Department's regulations, for administrative reviews from the petitioner and all companies requesting reviews, as noted above, we are amending our July 31, 2000, notice of initiation to include the following companies in accordance with § 351.221(c)(1) of the Department's regulations: Weihai, Luoyang, ZCCBC, Wafangdian, ZMC, China National Bearing Joint Imp. & Exp. Corp. (CBEC), Dalian Machine Tools Parts Factory, Zhejiang Xinchang Bearing Factory, Hebei Rolling Bearing, Hebei Rolling Mill Bearing Group Company, Hunan Hengyang Bearing Factory, China Machine-Building International Corp, Distribution Services Ltd. (Hong Kong), and Distribution Services Ltd. (Shanghai).

Because we have found it necessary to amend the original notice of initiation, the date of initiation for all companies covered by this review, including those companies for which an administrative review was initiated pursuant to the original July 31, 2000, notice, will be the date of publication of this notice.

Rescission in Part of Review

As noted above, several companies were also inadvertently included in the original July 31, 2000, notice of initiation for which no request for review was made. Because no request for review was made by any interested party in accordance with section 751(a)(1) of the Act and § 351.213(b) of the Department's regulations, we are rescinding this review in part in accordance with § 351.213(d)(2) with respect to the following companies:

Zhejiang changsan (Bearing) Group Co. Ltd.

Yantai CMC Bearing Co., Ltd.

Louyang Bearing Factory

Wafangdian Bearing Factory

Wafangdian Bearing Industry Co.

Wafangdian Bearing Factory, Liaoning Province

China National Machinery & Equipment Import & Export Corporation, Beijing

China National Machinery and Equipment Import and Export Corporation (CMEC), Beijing

Henan Machinery and Equipment Import and Export Corporation

The China National Machinery and Equipment Import and Export Corporation, Henan Co., Ltd.

Guizhou Machinery Import and Export Corporation

Liaoning Machinery Import and Export Corporation

The China National Machinery and Equipment Import and Export Corporation, Liaoning Co., Ltd.

Jilin Machinery Import and Export Corporation

China National Machinery Import and Export Corporation of Jilin Province

The China National Machinery and Equipment Import and Export Corporation, Guizhou Branch

China National Machinery and Equipment Import Export Company (CMEC), Zhejiang

Guizhou Machinery Import and Export Corporation Guiyang, Guizhou China

China National Automotive Industry Import & Export Corporation

China National Automotive Industry Import & Export Corporation, Guizhou China

China National Automotive Industry Guizhou Import/ Export Corp.

Xiangfan Machinery Import & Export (Group) Corp.

Xiangfan Machinery Foreign Trade Corporation

Xiangfan International Trade Corp.

Shandong Machinery and Equipment Import & Export Corporation

Shandong Machinery and Equipment Import & Export Group Corporation

Hangzhou Metals, Minerals, Machinery & Chemical Import Export Corporation

China Great Wall Industry Company

Chin Jun Industrial, Ltd.

China National Machinery Import/Export Corporation, Yantai

China National Machinery and Equipment Corp., Changsha

China National Machinery and Equipment Import Export Company (CMEC), Hunan

Shanghai Machinery & Equipment Import & Export Corp.

Zhejang Machinery Import/Export Corp.

Shandong Machinery Import/Export Corp.

Shaanxi Machinery & Equipment I/E Corp.

Guangdong Machinery and Equipment Import & Export

Guangdong Machinery and Equipment Import & Export (Group) Corporation

East Sea Bearing Co., Ltd.

Shanghai General Bearing Co., Ltd.

Luoyang Bearing Research Institute of the Ministry Of Machinery & Electronics Industry

The Tenth Institute of Machinery Project Planning & Research of the Ministry of Machinery & Electronics Industry

Shanghai Rolling Bearing Factory

Shanghai Miniature Bearing Factory

Hailin Bearing Factory

Beijing Bearing Research Institute

Changzhi People Factory

Shenyang Steel Ball Plant

Wuxi Miniature Bearing Factory

Shanghai Bearing Technology Research Institute

Shanghai Steel Ball Plant

Qingdao Steel Ball Plant

Hhubei Steel Ball Plant

Chongqing Steel Ball Plant

Tianshui Bearing Instrument Plant

Beijing Needle Roller Bearing Factory

Tianjin Miniature Bearing Factory

Shanghai Needle Roller Bearing Factory

Luoyang Dongfeng Bearing Factory

Ghangge Bearing Factory

The Second Machine Tools Electric Apparatus Plant of Anyang

Chengdu Bearing Company

Dalian Bearing Instrument Plant

China National Automotive Import & Export Corporation

China National Automotive Industry Import & Export Corporation

China National Automotive Industry Xiamen Import/Export Corporation/Shanghai

China National Automotive Industry Xiamen Import/Export Corporation

China National Machinery/Equipment Corp., Harbin Branch

Kenwa Shipping Co., Ltd.

Pantainer Express Line Co.

Intermodal Systems Ltd.

Ideal Consolidators Ltd.

Cargo Services Far East Ltd.

China Resources Transportation & Godown Co., Ltd.

China Travel Service (HK) Ltd.

Kaitone Shipping Co., Ltd.

Profit Cargo Service Co., Ltd.

United Cargo Management, Inc.

Wafangdian Hyatt Bearing Manufacturing Co., Ltd.

China National Bearing Joint Export Corp.

PFL Pacific Forwarding, Ltd.

Wah Shun Shipping Co., Ltd.

Sunway Line, Inc.

Trans-Ocean Bridge Services, Ltd.

Scanwell Container Line Ltd.

Scanwell Consolidators & Forwarders Ltd.

China Machine-Bearing International Corp.

Hyaline Shipping (HK) Co., Ltd.

Waiwell Shipping Ltd.

Special Line Ltd.

YK Shipping International, Inc.

Blue Anchor Line Co.

Onan Shipping Ltd.

Shanghai Bearing Corporation

China National Machinery Imp. & Exp. Corp., Chongquing Branch

Distribution Services Ltd.

Inteks Inc. N.V.O.C.C.

Shaanxi Machinery & Equipment Imp. & Exp. Corp.

United Cargo Management Inc., Dalian Office

Zhejiang East Sea Bearing Co., Ltd.

Mayer Shipping Ltd. HK

SEC Line Ltd.

Jebsin Shipping Ltd.

Heika Express International Ltd.

J.P. Freight, Inc. Shanghai, PRC

Brilliant Ocean Ltd. Corp. (USA)

Roson Express Int'l Co., Ltd.

Streamline Shippers Association Hong Kong

Laconic Freight Forwarding Co., Ltd.

Mitrans Shipping Co., Ltd.

The Ultimate Freight Management (H.K.) Ltd.

Ideal Consolidators Ltd.

Luoyang Bearing Research Institute

Burlington Air Express Ltd.

Janco Int'l Freight Ltd.

Sunrise Industrial Technology Co.

Kin Bridge Express (USA) Inc.

Wice Marine Services Ltd.

Welley Shipping, Ltd.

WSA Lines, Ltd.

Triumph Express Service Int'l Ltd.

World Pacific Container Line Ltd.

Hellman Int'l Forwarders, Ltd.

Ideal Ocean Lines, Ltd.

MSAS Cargo Int'l (Far East) Ltd.

Ocean Navigator Express Line

Sunrise Industries Technology Co.

Apex Maritime Co., Inc.

Apex Maritime Co., Inc. (Dalian)

Dalian Machine Tool Accessories

Everich Shipping, Ltd.

Eternity Int'l Freight Forwarder

Trans-Am Sea Freight (HK) Ltd.

Zhong Shan Transportation Co., Ltd.

Leader Express International (HK)

Transnation Shipping Ltd.

Mayer Shipping Ltd.

Orient Star Consolidating

Buyers Consolidators Ltd.

Trust Freight Services, Inc.

Seatop Shipping Ltd.

AEL Asia Express (HK) Ltd.

Kenwa Shipping Co., Ltd.

Exbo Shipping Co., Ltd.

Cots Shipping Co., Ltd.

Streamline Shippers Association

Air Sea Container Line, Inc.

CL Consolidator Services Ltd.

Scanwell Freight Express Co., Ltd.

C.U. Transport, Inc.

Ensign Freight (China) Ltd.

Air Sea Transport, Inc.

Air Sea Transport, Inc., Yantai Office

Air Sea Transport, Inc., Dalian

Wuhan Machinery & Equipment

Hang Cheong Shipping Co., Ltd.

Deckwell Sky Express, Inc.

China Machinery Equipment Import & Export Wuxi Co., Ltd.

China Machinery & Equipment Import & Export Co., Ltd. (Jiangying Bearing Works)

China Jiangsu Machinery and Equipment Import & Export Wuxi Co., Ltd.

China National Packaging Import & Export Nanjing Corporation

China National Machinery and Equipment Import and Export Corporation (CMEC)

CMEC Sichan

CMEC Henan

CMEC Shandong

CMEC Jiangsu

CMEC Guangdong

CMEC Hebei

CMEC Hunan

CMEC Anhui

CMEC Hubei

CMEC Zhejiang

CMEC Liaoning

CMEC Jiangxi

CMEC Yunnan

CMEC Heilongjiang

CMEC Shaanxi

CMEC Guizhou

CMEC Fujian

CMEC Shanxi

CMEC Jilin

CMEC Gansu

CMEC Hainan

CMEC Qinghai

CMEC Chengdu

CMEC Zengzhou

CMEC Tsinan

CMEC Nanjing

CMEC Guangzhou

CMEC Shijiazhuang

CMEC Changsha

CMEC Hefei

CMEC Wuhan

CMEC Hangzhou

CMEC Shenyang

CMEC Nanchang

CMEC Kunming

CMEC Harbin

CMEC Xian

CMEC Guiyang

CMEC Fuzhou

CMEC Taiyuan

CMEC Changchun

CMEC Lanzhou

CMEC Haikou

CMEC Xining

CMEC Guangxi Zhuang

CMEC Nei Monggol

CMEC Xinjiang Uygur

CMEC Ningxia Hui

CMEC Xizang

CMEC Nanning

CMEC Hohhot

CMEC Urumqi

CMEC Yinchuan

CMEC Lhasa

CMEC Shanghai

CMEC Beijing

CMEC Tianjin

Sichuan CMC

Henan CMC

Shandong CMC

Jiangsu CMC

Guangdong CMC

Hebei CMC

Hunan CMC

Anhui CMC

Hubei CMC

Zhejiang CMC

Liaoning CMC

Jiangxi CMC

Yunnan CMC

Heilongjiag CMC

Shaanxi CMC

Guizhou CMC

Fujian CMC

Shanxi CMC

Jilin CMC

Gansu CMC

Hainan CMC

Qinghai CMC

Chengdu CMC

Zengzhou CMC

Tsinan CMC

Nanjing CMC

Guangzhou CMC

Shijiazhuang CMC

Changsha CMC

Hefei CMC

Wuhan CMC

Hangzhou CMC

Shenyang CMC

Nanchang CMC

Kunming CMC

Harbin CMC

Xian CMC

Guiyang CMC

Fuzhou CMC

Taiyuan CMC

Changchun CMC

Lanzhou CMC

Haikou CMC

Xining CMC

Guangxi Zhuang CMC

Nei Monggol CMC

Xinjiang Uygur CMC

Ningxia Hui CMC

Xizang CMC

Nanning CMC

Hohhot CMC

Urumqi CMC

Yinchuan CMC

Lhasa CMC

Shanghai CMC

Beijing CMC

Tianjin CMC

This partial rescission of the 1999-2000 administrative review is only applicable to those companies specifically named above, and does not apply to companies with similar names or companies for which a review was initiated pursuant to the original notice of initiation that are not specifically excluded above by the name under which the review was requested by the petitioner and respondents.

This notice is issued in accordance with section 777(i)(1) of the Act.

Dated: August 4, 2000.
Richard W. Moreland,
Deputy Assistant Secretary, AD/CVD Enforcement I.

[FR Doc. 00-20330 Filed 8-9-00; 8:45 am]

BILLING CODE 3510-DS-P